DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, D.C.

Docket Number: 05-016. Applicant: University of California, Lawrence Livermore National Laboratory, 7000 East Avenue., L-516 Livermore, CA 94550. Instrument: Electron Microscope, Model Technai G2 F20 S-TWIN. Manufacturer: FEI Company, The Netherlands. Intended Use: The instrument is intended to be used to perform imaging and measuring the compositions and crystal structures of extraterrestrial samples returned to Earth by NASA Apollo missions as well as to study cometary nanomaterials to be returned to Earth by the STARDUST missionin 2006. Techniques include imaging, diffraction, x-ray spectroscopy and electron energy-loss spectroscopy. It will also be used for graduate student training. Application accepted by Commissioner of Customs: April 8, 2005.

Docket Number: 05-019. Applicant: The University of Texas at Austin, Texas Materials Institute, 1 University Station, C2201, Austin, TX 78712. Instrument: Electron Microscope, Model Technai G2 F20 X-TWIN. Manufacturer: FEI Company, The Netherlands. Intended Use: The instrument is intended to be used to study a broad spectrum of materials including polymers, metals, ceramics and biological tissues and specimens by determining and imaging the morphology of multiphase materials and nanoparticles, particle size and distribution, crystal structure, and the metrology of semiconductor systems. It will also be employed in the teaching of a variety of courses. Application accepted by Commissioner of Customs: April 22, 2005.

Docket Number: 05-022. Applicant: The Mayo Clinic, 200 First Street, S.W., Rochester, MN 55905. Instrument: Electron Microscope, Model Technai G2 12 TWIN. Manufacturer: FEI Company, Japan. Intended Use: The instrument is intended to be used by all Mayo Clinic researchers and investigators. Most specimens will be of biological origin. Some of the human tissue studied may involve pathological consequences. The microscope will also be used for training in basic TEM operation for graduate students, medical students and residents. Application accepted by Commissioner of Customs: April 26, 2005.

Gerald A. Zerdy,
Program Manager Statutory Import Programs Staff.

[FR Doc. E5-2354 Filed 5-11-05; 8:45 am]

BILLING CODE 3510-DS-S